DEPARTMENT OF HOMELAND SECURITY

Coast Guard

33 CFR Part 117

[Docket No. USCG-2014-0514]

Drawbridge Operation Regulation; Pequonnock River, Bridgeport, CT

AGENCY: Coast Guard, DHS.

ACTION: Notice of deviation from drawbridge regulation.

SUMMARY: The Coast Guard has issued a temporary deviation from the operating schedule that governs the operation of the Stratford Avenue Bridge across the Pequonnock River, mile 0.1, at Bridgeport, Connecticut. The deviation is necessary to allow the bridge to remain in the closed position for scheduled maintenance at the bridge.

DATES: This deviation is effective from 10 a.m. on July 15, 2014 through 4 p.m. on July 18, 2014.

ADDRESSES: The docket for this deviation, [USCG-2014-0514] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212)668-7165. If you have questions on viewing the docket, call Cheryl Collins, Program Manager, Docket Operations, telephone 202-366-9826.

SUPPLEMENTARY INFORMATION: The Stratford Avenue Bridge has a vertical clearance of 8 feet at mean high water. The existing drawbridge operating regulations are found at 33 CFR 117.219(a).

The City of Bridgeport, requested a bridge closure to facilitate replacement of the transformer at the bridge.

Under this temporary deviation, the Stratford Avenue Bridge may remain in the closed position between 10 a.m. and 4 p.m. on July 15, 2014. In the event of inclement weather the rain dates are July 16, 2014, through July 18, 2014. Vessels that can pass under the bridge in the closed position may do so at all times.

The Pequonnock River supports seasonal recreational vessel traffic and one commercial operator. There are no alternate routes. The bridge can't be opened in the event of an emergency.

In accordance with 33 CFR 117.35(e), the drawbridge must return to its regular operating schedule immediately at the end of the effective period of this temporary deviation. This deviation from the operating regulations is authorized under 33 CFR 117.35.

Dated: June 20, 2014.
C.J. Bisignano,
Supervisory Bridge Management Specialist, First Coast Guard District.

[FR Doc. 2014-15456 Filed 6-30-14; 8:45 am]

BILLING CODE 9110-04-P